DEPARTMENT OF AGRICULTURE

Office of the Secretary

Notice of Solicitation of Members to the National Genetic Research Advisory Council

AGENCY: Research, Education, and Economics, USDA.

ACTION: Solicitation of members.

SUMMARY: In accordance with the Food, Agriculture, Conservation, and Trade Act of 1990 (7 U.S.C.A. 5843), the United States Department of Agriculture announces the solicitation for nominations to fill four vacancies on the National Genetic Resources Advisory Council.

DATES: All nomination materials should be mailed in a single, complete package and postmarked or sent electronically by May 30, 2014.

ADDRESSES: All nomination packages must be sent to: Thomas Vilsack, Secretary, U.S. Department of Agriculture; 1400 Independence Avenue SW., Washington, DC 20250-2255, Attn: National Genetics Research Advisory Council, Room 3901, South Building.

FOR FURTHER INFORMATION CONTACT: Michele Esch, Executive Director, National Genetics Research Advisory Council, Room 3901, South Building, U.S. Department of Agriculture, 1400 Independence Avenue SW., Washington, DC 20250-0321 Telephone: 202-720-3684. Fax: 202-720-6199, or email: Michele.esch@usda.gov.

SUPPLEMENTARY INFORMATION: The Board is composed of 9 members. The NGRAC was re-established in 2012 as a permanent subcommittee of the National Agricultural Research, Extension, Education, and Economics (NAREEE) Advisory Board to formulate recommendations on actions and policies for the collection, maintenance, and utilization of genetic resources; to make recommendations for coordination of genetic resources plans of several domestic and international organizations; and to advise the Secretary of Agriculture and the National Genetic Resources Program (NGRP) Director of new and innovative approaches to genetic resources conservation. The NGRAC will advise the Department on ways to ensure that the NGRP serves the needs of all farmers for high-quality and diverse seed (both conventionally bred and genetically engineered) for their particular farming operations. The NGRAC will also advise the department on developing a broad strategy for maintaining plant biodiversity available to agriculture, and strengthening public sector plant breeding capacities.

The terms of 4 members of the NGRAC expired on September 30, 2013. Nominations for a 4-year appointment, effective October 1, 2013 through September 30, 2017, for these 4 vacant positions are sought. The NGRAC membership is required to have two-thirds of the appointed members from scientific disciplines relevant to the NGRP including agricultural sciences, environmental sciences, natural resource sciences, health sciences, and nutritional sciences; and one-third of the appointed members from the general public including leaders in fields of public policy, trade, international development, law, or management. The 4 slots to be filled are to be composed of 3 scientific members and 1 general public member. All nominees will be carefully reviewed for their expertise, leadership, and relevance. All nominees will be vetted before selection.

Individuals and organizations who wish to nominate experts for this or any other USDA advisory committee should submit a letter to the Secretary listing these individuals' names and business address, phone, and email contact information. These individuals may be contacted now or in the future to determine their interest in serving as a committee member.

Candidates who wish to be considered for membership on the National Genetic Research Advisory Council must submit an AD-755, “Advisory Committee Membership Background Information,” application form and their resume to the Secretary of Agriculture. Cover letters should be addressed to the Secretary of Agriculture. The application form and more information about advisory committees can be found at www.usda.gov/advisory_committees.xml.

Nominations are open to all individuals without regard to race, color, religion, sex, national origin, age, mental or physical handicap, marital status, or sexual orientation. To ensure the recommendations of the Advisory Board take into account the needs of the diverse groups served by the Department, membership shall include, to the extent practicable, individuals with demonstrated ability to represent all racial and ethnic groups, geographical areas, women and men, and persons with disabilities.

Appointments to the National Genetic Research Advisory Council will be made by the Secretary of Agriculture.

Done at Washington, DC this 10th day of March 2014.
Ann Bartuska,
Deputy Under Secretary, Research, Education, and Economics.

[FR Doc. 2014-06276 Filed 3-21-14; 8:45 am]

BILLING CODE 3410-03-P